ENVIRONMENTAL PROTECTION AGENCY

[ER-FRL-8991-6]

Environmental Impacts Statements; Notice of Availability

Responsible Agency: Office of Federal Activities, General Information (202) 564-1399 or http://www.epa.gov/compliance/nepa/.

Weekly receipt of Environmental Impact Statements.

Filed 07/12/2010 through 07/16/2010.

Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20100262, Final Supplement, USACE, MS,Pascagoula Harbor Navigation Channel Project, To Construct Congressionally Authorized Widening and Deepening Improvements, to Update the FEIS-1985, Jackson County, MS, Wait Period Ends:08/23/2010, Contact: Vechere' Lampley 404-562-5227.

EIS No. 20100263, Final EIS, FHWA, VT,Circ-Williston Transportation Project, Improvements between I-89 and the Towns Williston and Essex and the Village of Essex Junction, City of Burlington, Chittenden County, VT, Wait Period Ends: 08/27/2010, Contact: Kenneth R. Sikora, Jr. 802-828-4573.

EIS No. 20100264, Draft EIS, WAPA, AZ,Grapevine Canyon Wind Project, Proposal to Develop a Wind Energy Generating Facility up to 500 Megawatts; (2) a 345 kilovolt (kV) Electrical Transmission Tie-Line; and (3) a 345-kV electrical Interconnection Switchyard, Coconino County, AZ, Comment Period Ends: 09/07/2010, Contact: Matthew Blevins 800-336-7288.

EIS No. 20100265, Draft EIS, NOAA, VI,Amendment 2 to the Fishery Management Plan of Puerto Rico and the U.S. Virgin Islands and Amendment 5 to the Reef Fish Fishery Management Plan of Puerto Rico, Implementation of Annual Catch Limits (ACLs) and Accountability Measures (AMs) for Reef Fish and Queen Conch in the U.S. Caribbean, Comment Period Ends:09/07/2010, Contact: Dr. Roy E. Crabtree 727-824-5301.

EIS No. 20100266, Draft EIS, USFS, AK,Resurrection Creek Phase II Stream and Riparian Restoration Project and Hope Mining Company, Proposed Mining Plan of Operations, Seward Ranger District, Chugach National Forest, Kenai Peninsula Borough, Alaska, Comment Period Ends:09/07/2010, Contact: Bill MacFarlane 907-743-9434.

EIS No. 20100267, Final EIS, FTA, UT,Draper Transit Corridor Project, To Improve Transportation Mobility and Connectivity for Residents and Commuters in the Project Study Area, Salt Lake County, UT, Wait Period Ends:08/23/2010, Contact: Kritin Kenyon 720-963-3300.

EIS No. 20100268, Draft EIS, NRC, ID,Eagle Rock Enrichment Facility, Construct, Operate, and Decommission, Proposed Facility would Enrich Uranium for Use in Commercial Nuclear Fuel for Power Reactors, Bonneville County, ID, Comment Period Ends: 09/13/2010, Contact: Stephen Lemont 301-415-5163.

EIS No. 20100269, Final EIS, USAF, ND,Grand Forks Air Force Base Project, Beddown and Flight Operations of Remotely Piloted Aircraft, Base Realignment and Closure, (BRAC), ND, Wait Period Ends: 08/23/2010, Contact:Doug Allbright 618-229-0841.

EIS No. 20100270, Draft EIS, USACE, MO,Missouri River Commercial Dredging, Proposal to Extract Sand and Gravel from the Missouri River, U.S. Corp of Engineer's Section 10 and 404 Permits, Kansas City, Central Missouri and Greater St. Louis, Missouri, Comment Period Ends: 09/07/2010, Contact: Cody Wheeler 816-389-3739.

Amended Notices

EIS No. 20100230, Final EIS, FTA, HI,Honolulu High-Capacity Transit Corridor Project, Provide High-Capacity Transit Service on O'ahu from University of Hawaii-West O'ahu to the Ala Moana Center, City and County of Honolulu, O'ahu, Hawaii, Wait Period Ends:08/16/2010, Contact: Ted Matley 415-744-3133. Revision to FR Notice Published 6/25/2010: Correction to Title and Extending the Wait Period from 07/26/2010 to 08/16/2010.

EIS No. 20100255, Draft EIS, NPS, WA,Ross Lake National Recreation Area Project, General Management Plan, Implementation, Skagit and Whatcom Counties, WA, Comment Period Ends: 09/30/2010, Contact:Roy Zipp 360-873-4590 Ext 31. Revision to FR Notice Published 7/06/2010: Correction to Comment Period from 9/10/2010 to 9/30/2010.

Dated: July 20, 2010.
Robert W. Hargrove,
Director, NEPA Compliance Division, Office of Federal Activities.

[FR Doc. 2010-18100 Filed 7-22-10; 8:45 am]

BILLING CODE 6560-50-P